OFFICE OF THE UNITED STATES TRADE REPRESENTATIVE

Trade Policy Staff Committee; Invitation for Non-Governmental Organizations, Corporate Sponsors and Private Foundations To Volunteer Trade Capacity Building Assistance in Support of the U.S.-Central America Free Trade Agreement

AGENCY: Office of the United States Trade Representative, United States Agency for International Development.

ACTION: Request for submissions to volunteer trade capacity building assistance.

SUMMARY: The United States aims to attract additional resource partners that can legitimately contribute to the trade capacity building efforts in support of the US-Central America Free Trade Agreement (CAFTA). The TPSC gives notice that the Office of the United States Trade Representative and the United States Agency for International Development seek to expand the circle of resource partners to non-governmental organizations (NGOs), corporate sponsors and private foundations that can volunteer to conduct trade capacity building efforts in support of the CAFTA subject to (1) the priorities set by Central American countries in their national strategies; (2) the coordination efforts of the U.S. interagency trade capacity working group to, among other reasons, promote transparency; and (3) consistency with U.S. government policy. Interested parties should present a brief description of their potential contribution.

DATES: This notice recommends initial expressions be sent before June 15, 2003, although the invitation is open throughout the CAFTA negotiations.

ADDRESSES: Submissions by electronic mail: FR0074@ustr.gov (written comments). Submissions by facsimile: Gloria Blue, Executive Secretary, Trade Policy Staff Committee, at 202/395-6143.

The public is strongly encouraged to submit documents electronically rather than by facsimile. (See requirements for submissions below.)

FOR FURTHER INFORMATION CONTACT: For procedural questions, contact Gloria Blue, Executive Secretary, TPSC, Office of the USTR, 1724 F Street, NW., Washington, DC 20508, telephone (202) 395-3475. Substantive questions should be addressed to Tracy Quilter, Director for Trade Capacity Building, Office of the USTR, telephone (202) 395-2839.

SUPPLEMENTARY INFORMATION: The United States has entered into free trade negotiations with five Central American countries: Costa Rica, El Salvador, Guatemala, Honduras and Nicaragua. The agreement seeks to eliminate tariffs and other barriers to trade in goods, agriculture, services, and investment between the United States and the five Central American countries. The participants will seek to complete the negotiations by December 2003.

Nine rounds of negotiations are planned in 2003. To date, three have occurred. Negotiating groups cover the following topics: market access; investment and services; government procurement and intellectual property; labor and environment; and institutional issues such as dispute settlement. A non-negotiating cooperative group on trade capacity building (“TCB Working Group”) has been meeting in parallel with the negotiating groups.

The TCB Working Group aims to address, to the extent possible, the needs of the Central American countries during the negotiation, throughout implementation of the agreement and during the country's transition to free trade. The U.S. government (USG), in concert with regional institutions such as the Inter-American Development Bank, the World Bank, the Organization of American States, the U.N. Economic Commission for Latin America and the Central American Bank for Economic Integration, has assisted countries in completing national trade capacity building strategies to guide the work of the TCB Working Group. These strategies are intended to identify, define and prioritize each country's needs. The strategies can be found on USTR's Internet server (http://www.ustr.gov).

The United States and the Central American countries aim to attract additional resource partners that can legitimately contribute to the trade capacity building efforts in support of the CAFTA. The TPSC gives notice that USTR and USAID seek to expand the circle of resource partners to NGOs, corporate sponsors and private foundations that can volunteer to conduct trade capacity building efforts in support of the CAFTA subject to (1) the priorities set by Central American countries in their national strategies; (2) the coordination efforts of the U.S. interagency trade capacity working group; and (3) consistency with USG policy. The parties seek resource partners that are able to fund all or most of the technical assistance for the trade capacity building support that they propose to deliver in the context of these trade initiatives. Interested parties should present a brief description of their potential contribution.

Resource partners that volunteer to participate based on their willingness to consider self-funded technical assistance or other trade capacity building services in response to the needs identified by the Central Americans in the CAFTA process may be invited to brief the TCB Working Group or donors on their interests and capabilities.

Submitting Comments: To ensure prompt and full consideration of responses, the TPSC strongly recommends that interested persons make submissions by electronic mail to the following e-mail address: FR0074@ustr.gov. Persons making submissions by e-mail should use the following subject line: “CAFTA TCB Assistance.” Documents should be submitted as either WordPerfect, MSWord, or text (.TXT) files. Supporting documentation submitted as spreadsheets is acceptable as Quattro Pro or Excel. For any document containing business confidential information submitted electronically, the file name of the business confidential version should begin with the characters “BC-”, and the file name of the public version should begin with the character “P-”. The “P-” or “BC-” should be followed by the name of the submitter. Persons who make submissions by e-mail should not provide separate cover letters; information that might appear in a cover letter should be included in the submission itself. Similarly, to the extent possible, any attachments to the submission should be included in the same file as the submission itself, and not as separate files.

Written comments will be placed in a file open to public inspection pursuant to 15 CFR 2003.5, except confidential business information exempt from public inspection in accordance with 15 CFR 2003.6. Confidential business information submitted in accordance with 15 CFR 2003.6 must be clearly marked “BUSINESS CONFIDENTIAL” at the top of each page, including any cover letter or cover page, and must be accompanied by a non-confidential summary of the confidential information. All public documents and non-confidential summaries shall be available for public inspection in the USTR Reading Room in Room 3 of the annex of the Office of the USTR, 1724 F Street, NW., Washington, DC 20508. An appointment to review the file may be made by calling (202) 395-6186. The USTR Reading Room is generally open to the public from 10 a.m.-12 p.m. and 1 p.m.-4 p.m., Monday through Friday. Appointments must be scheduled at least 48 hours in advance.

General information concerning the Office of the USTR may be obtained by accessing its Internet server (http://www.ustr.gov). General information concerning the United States Agency for International Development (USAID) may be obtained by accessing its Internet server (http://www.usaid.gov).

Carmen Suro-Bredie,
Chairman, Trade Policy Staff Committee.

[FR Doc. 03-11379 Filed 5-6-03; 8:45 am]

BILLING CODE 3190-01-P